DEPARTMENT OF HEALTH AND HUMAN SERVICES

Administration for Children and Families

Delegation of Authority

Notice is hereby given that I have delegated to the Commissioner, Administration on Children, Youth and Families (ACYF), the following Authority:

1. Authority to carry out the provisions of the Family Violence Prevention and Services Act, 42 U.S.C. 10401 et seq., and as amended, now and hereafter.

2. Authority to coordinate all programs involving family violence prevention and services within the Department of Health and Human Services; to seek to coordinate all other Federal programs involving family violence prevention and services; to provide for research; and to provide for training and technical assistance.

3. Authority to approve applications for Family Violence Prevention and Services grants authorized under the Family Violence Prevention and Services Act, 42 U.S.C. 10401 et seq., and as amended, now and hereafter.

This delegation shall be exercised under financial and administrative requirements applicable to all Administration for Children and Families authorities. In addition, responsibilities under this Act are to be carried out in accordance with the requirements of section 307 of the Family Violence Prevention and Services Act, 42 U.S.C. 10406. (The Secretary has delegated to the Office for Civil Rights enforcement Authority under section 307.) Further, this delegation is null and void with respect to a Commissioner who, prior to appointment, has not had expertise in the field of family violence prevention and services.

I have affirmed and ratified any actions by the Commissioner, Administration on Children, Youth and Families or any other ACYF official which, in effect, involved the exercise of these authorities prior to the effective date of this delegation.

This delegation supersedes any previous delegation of authority pertaining to Family Violence Prevention and Services programs which could have been exercised by the Assistant Secretary for Children and Families or any designee thereof.

This delegation was effective on February 17, 2004.

Dated: May 18, 2004.
Wade F. Horn,
Assistant Secretary for Children and Families.

[FR Doc. 04-12090 Filed 5-27-04; 8:45 am]

BILLING CODE 4184-01-P